NATIONAL LABOR RELATIONS BOARD

Order Contingently Delegating Authority to the Chairman, the General Counsel, and the Chief Administrative Law Judge

AGENCY: National Labor Relations Board.

ACTION: Notice of Order Contingently Delegating Authority to the Chairman, the General Counsel, and the Chief Administrative Law Judge.

SUMMARY: The National Labor Relations Board has issued an Order contingently delegating to the General Counsel authority over the appointment, transfer, demotion, or discharge of any Regional Director or of any Officer-in-Charge of a Subregional Office, and over the establishment, transfer or elimination of any Regional or Subregional Office, subject to the right of any sitting Board Member to request full-Board consideration of any particular decision.¹ The Order also contingently delegates to the Chairman and General Counsel the authority to jointly determine the apportionment and allocation of funds and/or the establishment of personnel ceilings within the Agency, subject to the right of any sitting Board Member to request full-Board consideration of any particular decision. Finally, the Order contingently delegates to the Chief Administrative Law Judge authority over the appointment, transfer, demotion, or discharge of any Administrative Law Judge, subject to the right of any sitting Board Member to request full-Board consideration of any particular decision. These delegations shall become effective during any time at which the Board has fewer than three Members and shall cease to be effective whenever the Board has at least three Members.

¹ For the purposes of this notice “full-Board consideration” means consideration by a Board comprised of at least three members.

DATES: This Order is effective November 22, 2011.

FOR FURTHER INFORMATION CONTACT: Lester A. Heltzer, Executive Secretary, National Labor Relations Board, 1099 14th Street NW., Washington, DC 20570, (202) 273-1067 (this is not a toll-free number), 1-(866) 315-6572 (TTY/TDD).

SUPPLEMENTARY INFORMATION: The National Labor Relations Board anticipates that in the near future it may, for a temporary period, have fewer than three Members of its full complement of five Members.² The Board also recognizes that it has a continuing responsibility to fulfill its statutory obligations in the most effective and efficient manner possible. To assure that the Agency will be able to meet its obligations to the public to the greatest extent possible, the Board has decided to temporarily delegate certain authority to the Chairman, the General Counsel and to the Chief Administrative Law Judge as described below, subject to the right of any sitting Board Member to request full-Board consideration of any particular decision. These delegations shall be effective during any time at which the Board has fewer than three Members and are made under the authority granted to the Board under sections 3, 4, 6, and 10 of the National Labor Relations Act.

² The Board now has three Members, one of whom, Member Becker, is in recess appointment which will expire at the sine die adjournment of the current session of Congress.

Accordingly, the Board delegates to the General Counsel authority over the appointment, transfer, demotion, or discharge of any Regional Director or of any Officer-in-Charge of a Subregional Office, and over the establishment, transfer or elimination of any Regional or Subregional Office, subject to the right of any sitting Board Member to request full-Board consideration of any particular decision. In the absence of a request by any sitting Board Member for full-Board consideration of a particular decision(s), the decision(s) of the General Counsel will become final 30 days after the then-sitting Board Members are notified thereof. The Board also delegates to the Chairman and General Counsel the authority to jointly determine the apportionment and allocation of funds and/or the establishment of personnel ceilings within the Agency, subject to the right of any sitting Board Member to request full-Board consideration of any particular decision. In the absence of a request by any sitting Board Member for full-Board consideration of a particular decision(s), the decision(s) of the Chairman and the General Counsel will become final seven days after the then-sitting Board Members are notified thereof. Finally, the Board delegates to the Chief Administrative Law Judge authority over the appointment, transfer, demotion, or discharge of any Administrative Law Judge, subject to the right of any sitting Board Member to request full-Board consideration of any particular decision. In the absence of a request by any sitting Board Member for full-Board consideration of a particular decision(s), the decision(s) of the Chief Administrative Law Judge will become final 30 days after the then-sitting Board Members are notified thereof.

These delegations shall become and remain effective during any time at which the Board has fewer than three Members, unless and until revoked by the Board.

These delegations relate to the internal management of the National Labor Relations Board and are therefore, pursuant to 5 U.S.C. 553, exempt from the notice and comment requirements of the Administrative Procedure Act. Further, public notice and comment is impractical because of the immediate need for Board action. The public interest requires that this Order take effect immediately.

All existing delegations of authority to the General Counsel and to staff in effect prior to the date of this Order remain in full force and effect. For the reasons stated above, the Board finds good cause to make this order effective immediately in accordance with 5 U.S.C. 553(d).

Authority: Sections 3, 4, 6, and 10 of the National Labor Relations Act, 29 USC Sec. 3, 4, 6, and 10.

Signed in Washington, DC, November 22, 2011.
Mark Gaston Pearce,
Chairman.

[FR Doc. 2011-30699 Filed 11-28-11; 8:45 am]

BILLING CODE 7545-01-P